DEPARTMENT OF EDUCATION

Applications for New Awards; Training of Interpreters for Individuals Who Are Deaf or Hard of Hearing and Individuals Who Are DeafBlind Program

AGENCY: Office of Special Education and Rehabilitative Services, Department of Education.

ACTION: Notice.

SUMMARY: The Department of Education (Department) is issuing a notice inviting applications for Federal fiscal year (FFY) 2021 for Individuals Who Are Deaf or Hard of Hearing and Individuals Who Are DeafBlind program—Assistance Listing Number 84.160D—to provide training to working interpreters in order to develop a new skill area or enhance an existing skill area. This notice relates to the approved information collection under OMB control number 1820-0018.

DATES:

Applications Available: July 26, 2021.

Deadline for Transmittal of Applications: August 30, 2021.

Date of Pre-Application Meeting: On the date of publication in the Federal Register, the Office of Special Education and Rehabilitative Services (OSERS) will post a PowerPoint presentation that provides general information about the Rehabilitation Services Administration's (RSA) discretionary grants and a PowerPoint presentation specifically about Training of Interpreters for Individuals Who Are Deaf or Hard of Hearing and Individuals Who Are DeafBlind at https://ncrtm.ed.gov/RSAGrantInfo.aspx. OSERS will conduct a pre-application meeting via conference call on July 30, 2021. Details about the pre-application meeting will be available at https://ncrtm.ed.gov/RSAGrantInfo.aspx. OSERS invites you to send questions to 160D@ed.gov in advance of the pre-application meeting. The 84.160D pre-application meeting summary of questions and answers will be available at https://ncrtm.ed.gov/RSAGrantInfo.aspx within six days after the pre-application meeting.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Kristen Rhinehart-Fernandez, U.S. Department of Education, 400 Maryland Avenue SW, Room 5094, Potomac Center Plaza, Washington, DC 20202-2800. Telephone (202) 245-6103. Email: 160D@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Training of Interpreters for Individuals Who Are Deaf or Hard of Hearing and Individuals Who Are DeafBlind program is designed to establish interpreter training programs or to provide financial assistance for ongoing interpreter programs to train a sufficient number of qualified interpreters throughout the country in order to meet the communication needs of individuals who are deaf or hard of hearing and individuals who are DeafBlind by—

(a) Training interpreters to effectively interpret and transliterate between spoken language and sign language and to transliterate between spoken language and oral or tactile modes of communication;

(b) Ensuring the maintenance of the interpreting skills of qualified interpreters; and

(c) Providing opportunities for interpreters to raise their skill level competence in order to meet the highest standards approved by certifying associations.

Priority: This notice contains one absolute priority. In accordance with 34 CFR 75.105(b)(2)(v), the absolute priority is from the notice of final priority and requirements (NFP) for this program published elsewhere in this issue of the Federal Register.

Absolute Priority: For FFY 2021, and any subsequent year in which we make awards from the list of unfunded applications from this competition, this priority is an absolute priority. Under 34 CFR 75.105(c)(3), we consider only applications that meet this priority.

This priority is:

Interpreter Training in Specialty Areas.

The purpose of this priority is to fund projects that provide training to working interpreters in one of five specialty areas to effectively meet the communication needs of individuals who are deaf or hard of hearing and individuals who are DeafBlind receiving vocational rehabilitation (VR) services and/or services from other programs, such as independent living services, under the Rehabilitation Act of 1973 (Rehabilitation Act). For the purposes of this priority, working interpreters must possess a baccalaureate degree and a minimum of three years of relevant experience as an interpreter. On a case-by-case basis and in consultation with RSA, educational equivalence may be used in place of the baccalaureate degree.

The specialty areas are—

(1) Increasing skills of novice interpreters;

(2) Trilingual interpreting (including Spanish) (i.e., language fluency in first, second, and third languages with one of the three languages being ASL);

(3) Advanced skills for working interpreters;

(4) Cultural competency training, outreach, and recruitment of interpreters from multicultural backgrounds; and

(5) National projects in a field-initiated area, in topic areas such as—

(a) Interpreting in healthcare, including interpreting for hard-to-serve populations;

(b) Interpreting for individuals who are DeafBlind;

(c) Atypical language interpreting; and

(d) Other topics in new areas for which applicants demonstrate that the existing training is not adequately meeting the needs of interpreters working in the field of VR.

Application Requirements:

The following application requirements apply to all specialty areas under this priority. The Department encourages innovative approaches to meet these requirements. Applicants must—

(a) Demonstrate, in the narrative section of the application under “Significance of the Project,” how the proposed project will address the need for sign language interpreters in a specialty area. To address this requirement, applicants must—

(1) Present applicable data demonstrating the need for interpreters in the specialty area for which training will be developed by the project and delivered in at least three distinct, noncontiguous geographic areas, which may include the U.S. Territories;

(2) Present baseline data for the number or estimated number of working interpreters currently trained in the specialty area. In the event that an applicant proposes training in a new specialty area that does not currently exist or for which there are no baseline data, the applicant should provide an adequate explanation of the lack of reliable data and may report zero as a baseline; and

(3) Describe the competencies that working interpreters must demonstrate in order to provide high-quality services in the identified specialty area and explain how those competencies are based on practices that demonstrate a rationale or are supported by promising evidence (as defined in 34 CFR 77.1).

(b) Demonstrate, in the narrative section of the application under “Quality of Project Design,” how the proposed project will—

(1) Develop a new training program or stand-alone modules and conduct a pilot by the end of the first year of the project. Applicants must provide justification in their application if they believe additional time may be necessary to fully develop and pilot the curricula before the end of the first year. The training program or stand-alone modules must contain remote learning ¹ experiences that advance engagement and learning (e.g., synchronous and asynchronous professional learning, professional learning networks or communities, and coaching), which could also be incorporated into existing associate, baccalaureate, or graduate degree ASL-English (or ASL-other spoken language) programs, as appropriate. The remote learning environment must be accessible to individuals with disabilities in accordance with Section 504 of the Rehabilitation Act of 1973 and Title II of the Americans with Disabilities Act, as applicable. Applicants may choose to award continuing education credits (CEUs) or college or master's level credits to participants in the training program. Applicants should note that while pre-service training is not the focus of this program, a variety of resources may be considered (such as available pre-service training material) that may inform, support, or strengthen the development of training for ASL-English interpreter training in specialized areas. Training materials may include information to ensure participants have a foundational understanding of the VR program. Finally, applicants must consider cultural competency as it relates to their respective specialty area. Applicants must describe how training and accompanying materials developed for interpreting practice and application, especially video content, will include diverse and inclusive models and perspectives;

¹ Remote learning means programming where at least part of the learning occurs away from the physical building in a manner that addresses a learner's educational needs. Remote learning may include online, hybrid/blended learning, or non-technology-based learning (e.g., lab kits, project supplies, paper packets).

(2) Deliver the training or stand-alone modules remotely to at least three distinct, noncontiguous geographic areas identified in paragraph (a)(1) of these application requirements in years two, three, four, and five of the project. Applicants may deliver in-person training, as appropriate, to support participants' application of knowledge, skills, and competencies gained through online training. Applicants may decide when to safely offer in-person training and must be prepared to pivot between in-person and remote learning during the project, as needed, throughout the duration of the COVID-19 pandemic;

(3) Provide skilled, diverse, and experienced leaders, mentors, facilitators, coaches, and subject matter experts, as appropriate for the specialty area, to participants, as needed. This may include, but is not limited to, one-on-one instruction to address specific areas identified by an advisor as needing further practice, and providing written feedback from observed interpreting situations and mentoring sessions, from deaf consumers, from trained mentors, and from others, as appropriate;

(4) Develop a self-directed track and make it available to the public for independent remote learning by the end of the second year of the project. Applicants must develop a curriculum guide for each module and make available relevant materials from the training program. Applicants may offer CEUs to participants who successfully complete the self-directed track;

(5) Be based on current research and make use of practices that demonstrate a rationale or are supported by promising evidence. To meet this requirement, applicants must describe—

(i) How the proposed project will incorporate current research and practices that demonstrate a rationale or are supported by promising evidence in the development and delivery of training and in the development of products and materials;

(ii) How the proposed project will ensure interaction between project participants and individuals with disabilities who are deaf, hard of hearing, and DeafBlind and have a range of communication skills, from those with limited language skills to those with high-level, professional language skills, as appropriate.

(c) In the narrative section of the application under “Quality of Project Services,” applicants must—

(1) Demonstrate how the project will ensure equal access and treatment for eligible project participants who are members of groups who have traditionally been underrepresented based on race, color, national origin, gender, age, or disability;

(2) Describe the criteria that will be used to identify applicants for participation in the program, including any pre-assessments that may be used to determine the skill, knowledge base, and competencies of the working interpreter;

(3) Describe how the project will conduct outreach ² to working interpreters, especially working interpreters from rural areas, Indian Tribes, traditionally underrepresented groups, and individuals who come from heritage signing, deaf, and CODA backgrounds;

² When preparing outreach and recruitment materials, selection criteria for training programs, as well as criteria for selecting trainers employed under the grant, applicants must cast a wide net for participants of all races and not preclude participation based on race, color, or national origin.

(4) Describe how the project will provide feedback, resources, and next steps to applicants who may not be accepted into the program due to insufficient skills, knowledge base, and competencies;

(5) Describe how the program will identify skilled, diverse, and experienced leaders, mentors, facilitators, coaches, and subject matter experts, as appropriate for the specialty area, and develop necessary training for them to improve and enhance interpreting skills in their respective areas, as well as in remote delivery, as needed. Applicants must also describe how they will grow the pool of experienced personnel and create opportunities for participants to advance as mentors, coaches, and facilitators in the program;

(6) Describe the approach that will be used to enable more working interpreters to participate in and successfully complete the training program, specifically participants who need to work while in the program, have child care or elder care considerations, or live in geographically isolated areas;

(7) Describe how the project will incorporate adult learning principles and practices that demonstrate a rationale or are supported by promising evidence for adult learners;

(8) Demonstrate how the project is of sufficient scope, intensity, and duration to adequately prepare working interpreters in the identified specialty area of training. To address this requirement, applicants must describe how—

(i) The components of the proposed project will support working interpreters' acquisition and enhancement of the competencies identified in paragraph (a)(2)(i) of these application requirements;

(ii) The components of the project will provide working interpreters opportunities to apply their content knowledge in a variety of practical settings;

(iii) The proposed project will establish induction experiences in the specialty area for participants as a requirement for completion in the training program, to the extent possible. The induction environment must be designed in such a way that meets the communication preferences of individuals who are deaf, hard of hearing, and DeafBlind. Applicants must be prepared to pivot between in-person and remote inductions during the project, as needed, throughout the duration of the COVID-19 pandemic. The number of participants completing inductions may be based on availability of opportunities and trained personnel necessary to support them. Applicants may determine the appropriate scope and length of time for the induction and must work to increase the availability of inductions in their respective specialty area, where possible;

(9) Demonstrate how the proposed project will actively engage representation from consumers, consumer organizations, and service providers, especially State VR agencies and their partners, interpreters, interpreter educators, and individuals who are deaf, hard of hearing, and DeafBlind, in all aspects of the project; and

(10) Describe how the project will conduct dissemination, coordination, and communication activities. To meet this requirement, the applicant must describe how it will—

(i) Disseminate information to working interpreters about training available in specialized areas and to State VR agencies and their partners, American Job Centers, and other workforce partners about how to locate specialized interpreters in their State and local areas;

(ii) Establish a state-of-the-art website or modify an existing website for communicating with participants and stakeholders and ensure that all material developed by the grant and posted on the website are accessible to individuals with disabilities in accordance with section 504 of the Rehabilitation Act and title II of the Americans with Disabilities Act, as applicable. The website must provide a central location for all material related to the project, such as reports, training curricula, audiovisual materials, webinars, communities of practice, and other relevant material developed by the grantee;

(iii) Disseminate information about the project, including, but not limited to, products such as training curricula, presentations, reports, effective practices for training working interpreters in specialized areas, and other relevant information through the NCRTM;

(iv) In the final year of the budget period, ensure that all training materials have been provided to the NCRTM and the website and IT platform can be sustained, or coordinate with RSA to transition the website to the NCRTM;

(v) Establish one or more communities of practice in the specialty area of training that focuses on project activities and acts as a vehicle for communication and exchange of information among participants in the program and other relevant stakeholders;

(vi) Communicate, collaborate, and coordinate with other relevant Department-funded projects, as applicable;

(vii) Maintain ongoing communication with the RSA project officer and other RSA staff as required;

(viii) Communicate, collaborate, and coordinate, as appropriate, with key staff in State VR agencies, such as the State Coordinators for the Deaf; State and local partner programs; consumer organizations and associations, including those that represent individuals who are deaf, hard of hearing, and DeafBlind; and relevant RSA partner organizations and associations; and

(ix) Disseminate to associate, baccalaureate, or graduate degree ASL-English programs, as well as to relevant Department-funded programs and Federal partners, as applicable, the training material and products for incorporation into existing curricula, as well as products, effective practices for training working interpreters in specialized areas, challenges and solutions, results achieved, and lessons learned. To satisfy this requirement, the grantee must develop participant guides, implementation materials, toolkits, manuals, and other relevant material for interpreter educators and others, as appropriate, to incorporate or build into existing programs.

(d) In the narrative section of the application under “Quality of the Evaluation Plan,” include an evaluation plan. To meet this requirement, the evaluation plan must describe—

(1) Standards and targets for measuring the effectiveness of the program;

(2) An approach for measuring knowledge, skills, and competencies before and after successful completion of training;

(3) An approach for measuring outcomes for participants that completed an induction compared to those who did not prior to successfully completing the program;

(4) An approach for gathering information from participants about their estimated percentage of workload interpreting for individuals who are deaf or hard of hearing and individuals who are DeafBlind receiving VR services and/or services from other programs, such as independent living services, before and after specialty training;

(5) An approach for incorporating oral and written feedback from trainers and deaf consumers and any feedback from coaching or mentoring sessions conducted with the participants;

(6) Methodologies, including instruments, data collection methods, and analyses that will be used to evaluate the project and how the methods of evaluation will produce quantitative and qualitative data to demonstrate whether the project activities achieved their intended outcomes;

(7) Measures of progress in implementation, including the extent to which the project activities and products have reached their intended recipients, measures of intended outcomes or results in order to evaluate those activities, and how well the goals and objectives of the proposed project, as described in the logic model (as defined in 34 CFR 77.1), have been met;

(8) How the evaluation will be coordinated, implemented, and revised, as needed, during the project. The applicant must designate at least one individual with sufficient dedicated time, demonstrated experience in evaluation, and knowledge of the project to coordinate and conduct the evaluation. This may include, but is not limited to, making revisions post award in order to reflect any changes or clarifications, as needed, to the model and to the evaluation design and instrumentation with the logic model (e.g., designing instruments and developing quantitative or qualitative data collections that permit collecting of progress data and assessing project outcomes); and

(9) How evaluation results will be used to examine the effectiveness of the training. To address this requirement, applicants must provide an approach for determining—

(i) What practice(s) was most effective in training working interpreters in the respective specialty area and what data demonstrates the practice(s) was effective; and

(ii) What practice(s) was most effective in narrowing working interpreters' skill gaps and what data demonstrates the practice(s) was effective.

(e) Demonstrate, in the narrative section of the application under “Adequacy of Project Resources,” how—

(1) The proposed project will encourage applications for employment with the project from persons who are members of groups that have historically been underrepresented based on race, color, national origin, gender, age, or disability;

(2) Describe any proposed consultants or contractors named in the application and their areas of expertise and provide a rationale to demonstrate the need;

(3) Describe costs associated with technology, including, but not limited to, maintaining an online learning platform, state-of-the-art archiving and dissemination platform, and communication tools (i.e., Microsoft Teams, Zoom, Google, Amazon Chime, Skype, etc.), ensuring all products and services are accessible to individuals with disabilities in accordance with section 504 of the Rehabilitation Act and title II of the Americans with Disabilities Act, as applicable, including costs associated with captioning and transcription services, and cybersecurity; and

(4) The applicant and any identified partners have adequate resources to carry out the proposed activities.

(f) Demonstrate, in the narrative section of the application under “Quality of the Management Plan,” how applicants will ensure that—

(1) The project's intended outcomes, including the evaluation, will be achieved on time and within budget, through—

(i) Clearly defined responsibilities of key project personnel, consultants, and contractors, as applicable;

(ii) Procedures to track and ensure completion of the action steps, timelines, and milestones established for key project activities, requirements, and deliverables;

(iii) Internal monitoring processes to ensure that the project is being implemented in accordance with the established application and project plan; and

(iv) Internal financial management controls to ensure accurate and timely obligations, drawdowns, and reporting of grant funds, as well as monitoring contracts, in accordance with the Uniform Administrative Requirements, Cost Principles, and Audit Requirements for Federal Awards at 2 CFR part 200 and the terms and conditions of the Federal award.

(2) The allocation of key project personnel, consultants, and contractors, as applicable, including levels of effort of key personnel that are appropriate and adequate to achieve the project's intended outcomes, including an assurance that key personnel will have enough availability to ensure timely communications with stakeholders and RSA;

(3) The products and services are of high quality, relevance, and usefulness, in both content and delivery;

(4) The proposed project will benefit from a diversity of perspectives; and

(5) Projects will be awarded and must be operated in a manner consistent with nondiscrimination requirements contained in the Federal civil rights laws.

(g) Address the following application requirements. Applicants must—

(1) Include, in Appendix A, a logic model that depicts, at a minimum, the goals, activities, outputs, and short and long-term outcomes of the proposed project;

(2) Include, in Appendix A, person-loading charts and timelines, as applicable, to illustrate the management plan described in the narrative; and

(3) Provide an assurance that any interpreters trained or retrained under this program will meet the standards of competency for a qualified professional, defined in 34 CFR 396.4(c) as an individual who has: (i) Met existing certification or evaluation requirements equivalent to the highest standards approved by certifying associations; and (ii) successfully demonstrated interpreting skills that reflect the highest standards approved by certifying associations through prior work experience.

Program Authority: 29 U.S.C. 709(c) and 772(a) and (f).

Applicable Program Regulations: 34 CFR part 396.

Applicable Regulations: (a) The Education Department General Administrative Regulations in 34 CFR parts 75, 77, 79, 81, 82, 84, 86, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 396. (e) The NFP.

Note: The regulations in 34 CFR part 79 apply to all applicants except federally recognized Indian Tribes.

Note: The regulations in 34 CFR part 86 apply to institutions of higher education only.

II. Award Information

Type of Award: Discretionary grants.

Estimated Available Funds: $3,360,000.

Maximum Award: We will not make an award exceeding $420,000 for a single budget period of 12 months.

Estimated Number of Awards: 8.

Contingent upon the availability of funds and the quality of applications, we may make additional awards in subsequent years from the list of unfunded applications from this competition.

The Secretary intends to fund a total of eight national projects in FFY 2021. The Secretary intends to fund one project in each specialty area, (1) through (4), listed under the Absolute Priority section of this notice, provided that we receive applications of sufficient quality. In addition, the Secretary intends to fund four projects in specialty area (5). As a result, the Secretary may fund applications out of rank order. In the event that there are no applications submitted or deemed eligible to fund in specialty areas (1) through (4), the Secretary may fund more than four projects in specialty area (5).

Note: Section 302(f)(1)(C) of the Rehabilitation Act and 34 CFR 396.33 require the Secretary to give priority to public or private nonprofit agencies or organizations with existing programs that have a demonstrated capacity for providing interpreter training services. In the event of a peer review score tie and sufficient funding is only available to make one additional award, the Secretary will give priority to a public or private nonprofit agency or organization with an existing program that has a demonstrated capacity for providing interpreter training services.

Note: The Department is not bound by any estimates in this notice.

Project Period: Up to 60 months.

Continuing the Fourth and Fifth Years of the Program:

In deciding whether to continue funding the fourth and fifth years, the Department will consider the requirements of 34 CFR 75.253(a). In addition, as part of the review of the application narrative and annual performance reports, RSA will consider the degree to which the program demonstrates substantial progress toward completing project activities outlined in the priority, as well as the timeliness and effectiveness with which all requirements of the grant award have been or are being met by the grantee, including the submission of annual performance reports, and adherence to fiduciary responsibilities related to the budget submitted in the application per 2 CFR part 200, “Uniform Administrative Requirements, Cost Principles, and Audit Requirements for Federal Awards,” and the Education Department General Administrative Regulations.

III. Eligibility Information

1. Eligible Applicants: State and public or nonprofit agencies and organizations, including American Indian Tribes and IHEs.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for this program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. However, under 34 CFR 79.8(a), we waive intergovernmental review in order to make awards by the end of FY 2021.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are a combination of selection criteria under 34 CFR 396.31, 34 CFR 75.209, and 34 CFR 75.210, have a maximum score of 100 points, and are as follows:

(a) Program-specific. (20 points)

(1) The Secretary reviews each application to determine the extent to which—

(i) The proposed interpreter training project was developed in consultation with State Vocational Rehabilitation agencies and their related agencies and consumers;

(ii) The training is appropriate to the needs of both individuals who are deaf or hard of hearing and individuals who are DeafBlind and to the needs of public and private agencies that provide services to either individuals who are deaf or hard of hearing or individuals who are DeafBlind in the geographical area to be served by the training project;

(iii) Any curricula for the training of interpreters includes evidence-based practices and promising practices when evidence-based practices are not available;

(iv) There is a working relationship between the interpreter training project and State Vocational Rehabilitation agencies and their related agencies, and consumers; and

(v) There are opportunities for individuals who are deaf or hard of hearing and individuals who are DeafBlind to provide input regarding the design and management of the training project.

(b) Quality of the project design. (25 points)

(1) The Secretary considers the quality of the project design of the proposed project.

(2) In determining the quality of the design of the proposed project, the Secretary considers the following factors:

(i) The extent to which the goals, objectives, and outcomes to be achieved by the proposed project are clearly specified and measurable.

(ii) The extent to which the design of the proposed project includes a thorough, high-quality review of the relevant literature, a high-quality plan for project implementation, and the use of appropriate methodological tools to ensure successful achievement of project objectives.

(iii) The extent to which the design for implementing and evaluating the proposed project will result in information to guide possible replication of project activities or strategies, including information about the effectiveness of the approach or strategies employed by the project.

(c) Quality of project services. (15 points)

(1) The Secretary considers the quality of services to be provided by the proposed project.

(2) In determining the quality of project services, the Secretary considers the quality and sufficiency of strategies for ensuring equal access and treatment for eligible project participants who are members of groups that have traditionally been underrepresented based on race, color, national origin, gender, age, or disability.

(3) In addition, the Secretary considers the extent to which the training or professional development services to be provided by the proposed project are of sufficient quality, intensity, and duration to lead to improvements in practice among the recipients of those services.

(d) Quality of the project evaluation. (20 points)

(1) The Secretary considers the quality of the evaluation to be conducted by the proposed project.

(2) In determining the quality of the evaluation, the Secretary considers the following factors:

(i) The extent to which the methods of evaluation will provide performance feedback and permit periodic assessment of progress toward achieving intended outcomes.

(ii) The extent to which the methods of evaluation include the use of objective performance measures that are clearly related to the intended outcomes of the project and will produce quantitative and qualitative data to the extent possible.

(e) Quality of project personnel and adequacy of resources. (10 points)

(1) The Secretary considers the quality of personnel who will carry out the proposed project and the adequacy of project resources for the proposed project.

(2) In determining the quality of project personnel and adequacy of resources, the Secretary considers the extent to which the applicant encourages applications for employment from persons who are members of groups that have traditionally been underrepresented based on race, color, national origin, gender, age, or disability.

(3) In addition, the Secretary considers the following factors:

(i) The qualifications, including relevant training and experience, of key project personnel.

(ii) The extent to which the costs are reasonable in relation to the objectives, design, and potential significance of the proposed project.

(f) Quality of the management plan. (10 points)

(1) The Secretary considers the quality of the management plan.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10 in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit annual performance reports that provide the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of their programs by engaging in strategic planning, setting outcome-related goals for programs, and measuring program results against those goals.

For the purposes of GPRA and Department reporting under 34 CFR 75.110, we have established the following program measures:

Measure 1: The number of working interpreters enrolled in specialized training.

Measure 2: Of those enrolled, the number and percentage of working interpreters who successfully complete specialized training.

Measure 3: The number and percentage of working interpreters who successfully completed specialized training and subsequently reported using the knowledge and skills obtained during specialized training in their interpreting work.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Katherine Neas,
Acting Assistant Secretary for the Office of Special Education and Rehabilitative Services.

[FR Doc. 2021-15914 Filed 7-22-21; 4:15 pm]

BILLING CODE 4000-01-P